FEDERAL EMERGENCY MANAGEMENT AGENCY

44 CFR Part 67

Final Flood Elevation Determinations

AGENCY: Federal Emergency Management Agency (FEMA).

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: FEMA makes final determinations listed below of BFEs and modified BFEs for each community listed. The proposed BFEs and proposed modified BFEse were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Administrator of the Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and record keeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of “ § 67.11 are amended as follows:

State | City/town/county | Source of flooding | Location | #Depth in feet above ground. *Elevation in feet (NGVD) Modified
Missouri | Dunklin County (Unincorporated Areas) (FEMA Docket No. 7609 | Shallow flooding | Area north of State Route 84 and south of railroad | *259
Maps are available for inspection at the Courthouse, Courthouse Square, Kennett, Missouri.
Missour | Pemiscot County (Unincorporated Areas) (FEMA Docket No. 7609) | Shallow flooding | Area along Route A about 2,000 feet north of State Route 84 | *259
|  |  | Area south of City of Bragg City, west of Main Street | *259
|  |  | Area south of City of Bragg City, east of Main Street | *259
Maps are available for inspection at the Courthouse, 610 Ward Avenue, Caruthersville, Missouri.

State | City/town/county | Source of flooding | Location | #Depth in feet above ground. *Elevation in feet (NAVD) Modified
Texas | Galveston County (Unincorporated Areas) (FEMA Docket No. 7609) | Gulf of Mexico | North of FM 3005, from approximately 1,000 feet west of its intersection with Pirates Beach Circle to approximately 300 feet east of 12 mile Road | *17
|  |  | At the shoreline, near the Southern terminus of San Domingo Drive, about 100 feet west of the City of Galveston corporate limit, to the corporate limit | *20
Maps are available for inspection at the 123 Rosenberg Street, Suite 4157, Galveston, Texas.
Texas | Galveston (City), Galveston County (FEMA Docket No. 7609) | Gulf of Mexico | At the northern terminus of 9 Mile Road | *18
|  |  | Along the shoreline extending from approximately 1,500 feet east of the southern terminus of 11 Mile Road to Pabst Road | *20
Maps ar available for inspection at City Hall, 823 Rosenberg Street, Galveston, Texas.
Texas | Jamaica Beach (Village), Galveston County (FEMA Docket No. 7609) | Gulf of Mexico | From the canal northwest of Bahama Way to West Bay | *14
|  |  | Along the shoreline extending from the western corporate limit to the southern terminus of Buccaneer Drive | *20
Maps are available for inspection at 16628 San Luis Pass Road, Jamaica Beach, Texas.

(Catalog of Federal Domestic Assistance No. 83.100, “Flood Insurance.”)

Dated: Septermber 30, 2002.
Anthony S. Lowe,
Administrator, Federal Insurance and Mitigation Administration.

[FR Doc. 02-26218 Filed 10-15-02; 8:45 am]

BILLING CODE 6718-04-P